DEPARTMENT OF HEALTH AND HUMAN SERVICES

Indian Health Service

Request for Public Comment: 60-Day Proposed Information Collection: Application for Participation in the IHS Scholarship Program

AGENCY: Indian Health Service, HHS.

ACTION: Notice.

SUMMARY: In compliance with section 3506(c)(2)(A) of the Paperwork Reduction Act of 1995 which requires 60 days for public comment on proposed information collection projects, the Indian Health Service (IHS) is publishing for comment a summary of a proposed information collection to be submitted to the Office of Management and Budget (OMB) for review.

Proposed Collection: Title: 0917-0006, “Application for Participation in the IHS Scholarship Program.” Type of Information Collection Request: Three-year extension, without change of currently approved information collection, 0917-0006, “Application for Participation in the IHS Scholarship Program.” Form Number(s): IHS-856, 856-2 through 856-8, IHS-815, IHS-816, IHS-817, IHS-818, D-02, F-02, F-04, G-02, G-04, H-07, H-08, J-04, J-05, K-03, K-04, and L-03. Reporting formats are contained in an IHS Scholarship Program application booklet. Need and Use of Information Collection: The IHS Scholarship Branch needs this information for program administration and uses the information to solicit, process, and award IHS Pre-graduate, Preparatory, and/or Health Professions Scholarship grants and monitor the academic performance of awardees and to place awardees at payback sites. The IHS Scholarship Program is streamlining the application to reduce the time needed by applicants to complete and provide the information. The IHS Scholarship Program plans on using information technology to make the application electronically available on the internet. Affected Public: Individuals, not-for-profit institutions and State, local or tribal government. Type of Respondents: Students pursuing health care professions.

The table below provides: Types of data collection instruments, Estimated number of respondents, Number of responses per respondent, Annual number of responses, Average burden hour per response, and Total annual burden hour(s).

Data collection instruments(s) | Number of respondents | Responses per respondent | Total annual response | Burden hour per response * | Annual burden hours
Scholarship Application (IHS-856) | 1500 | 1 | 1500 | 1.00 (60 min) | 1500
Checklist (856-2) | 1500 | 1 | 1500 | 0.13 (8 min) | 195
Course Verification (856-3) | 1500 | 1 | 1500 | 0.70 (42 min) | 1050
Faculty/Employer Application (856-4) | 1500 | 2 | 3000 | 0.83 (50 min) | 2490
Justification (856-5) | 1500 | 1 | 1500 | 0.75 (45 min) | 1125
Federal Debt (856-6) | 1500 | 1 | 1500 | 0.13 (8 min) | 195
Job Experience (856-7) | 25 | 1 | 25 | 0.83 (50 min) | 21
Accept/Decline (856-8) | 650 | 1 | 650 | 0.13 (8 min) | 84
Receipt of Application (815) | 1500 | 1 | 1500 | 0.03 (2 min) | 45
Address Change Notice (816) | 25 | 1 | 25 | 0.02 (1 min) | 25
Scholarship Program Agreement (817) | 850 | 1 | 850 | 0.05 (3 min) | 43
Health Professions Contract (818) | 650 | 1 | 650 | 0.05 (3 min) | 33
Stipend Check (D-02) | 100 | 1 | 100 | 0.13 (8 min) | 13
Enrollment (F-02) | 1300 | 1 | 1300 | 0.13 (8 min) | 169
Academic Problem/Change (F-04) | 50 | 1 | 50 | 0.13 (8 min) | 6
Request Assistance (G-02) | 217 | 1 | 217 | 0.13 (8 min) | 28
Summer School (G-04) | 193 | 1 | 193 | 0.10 (6 min) | 19
Placement (H-07) | 250 | 1 | 250 | 0.18 (11 min) | 45
Graduation (H-08) | 250 | 1 | 250 | 0.17 (10 min) | 43
Site Preference (J-04) | 150 | 1 | 150 | 0.13 (8 min) | 20
Travel Reimb (J-05) | 150 | 1 | 150 | 0.10 (6 min) | 15
Status Report (K-03) | 250 | 1 | 250 | 0.25 (15 min) | 63
Preferred Assignment (K-04) | 200 | 1 | 200 | 0.75 (45 min) | 150
Request of Deferment (L-03) | 20 | 1 | 20 | 0.13 (8 min) | 3
Total | 15,830 |  |  |  | 7,380
* For ease of understanding, burden hours are also provided in actual minutes.

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Send Comments and Requests for Further Information: Send your written comments, requests for more information on the proposed collection, or requests to obtain a copy of the data collection instrument(s) and instructions to: Mrs. Chris Rouleau, IHS Reports Clearance Officer, 801 Thompson Ave., Suite 450, Rockville, MD 20852-1601; call non-toll free (301) 443-5938; send via facsimile to (301) 443-2316; or send your e-mail requests, comments, and return address to: Christina.Rouleau@ihs.gov.

Comment Due Date: Your comments regarding this information collection are best assured of having full effect if received within 60 days of the date of this publication.

Dated: August 3, 2007.
Charles W. Grim,
Assistant Surgeon General, Director, Indian Health Service.

[FR Doc. 07-3895 Filed 8-9-07; 8:45 am]

BILLING CODE 4165-16-M